INTERNATIONAL TRADE COMMISSION

[Inv. No. 337-TA-624]

In the Matter of: Certain Systems for Detecting and Removing Viruses or Worms, Components Thereof, and Products Containing Same; Notice of a Commission Determination Not To Review an Initial Determination Terminating the Investigation Based on a Cross-Licensing Agreement

AGENCY: U.S. International Trade Commission.

ACTION: Notice.

SUMMARY: Notice is hereby given that the U.S. International Trade Commission has determined not to review an initial determination (“ID”) (Order No. 26) of the presiding administrative law judge (“ALJ”) terminating the above-captioned investigation based on a cross-licensing agreement.

FOR FURTHER INFORMATION CONTACT: Clint Gerdine, Esq., telephone 202-708-2310, Office of the General Counsel, U.S. International Trade Commission, 500 E Street, SW., Washington, DC 20436. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on the matter can be obtained by contacting the Commission's TDD terminal on 202-205-1810.

SUPPLEMENTARY INFORMATION: The Commission instituted this investigation on December 31, 2007, based on a complaint filed on November 21, 2007, by Trend Micro Incorporated (“Trend Micro”) of Cupertino, California. 72 FR 74329-30. The complaint alleges violations of section 337 of the Tariff Act of 1930 (19 U.S.C. 1337) in the importation into the United States, the sale for importation, and the sale within the United States after importation of certain systems for detecting and removing viruses or worms, components thereof, and products containing same by reason of infringement of claims 2 and 4-22 of U.S. Patent No. 5,623,600 (“the '600 patent”). The complaint named three respondents: Barracuda Networks, Inc. of Campbell, CA (“Barracuda”); Panda Software International S.L. of Spain; and Panda Distribution, Inc. of Glendale, CA (collectively “Panda”). The complaint further alleged that an industry in the United States exists as required by subsection (a)(2) of section 337.

On March 14, 2008, the Commission issued notice of its determination not to review an ID granting Trend Micro's and Panda's joint motion to terminate the investigation as to Panda on the basis of a settlement agreement. On July 11, 2008, the Commission issued notice of its determination not to review an ID granting Trend Micro's motion to terminate the investigation in part on the basis of withdrawal of claims 2, 5-8, 12, 16-17, 20, and 22 of the '600 patent. On September 29, 2008, the Commission issued notice of its determination not to review an ID granting Trend Micro's motion to terminate the investigation in part on the basis of withdrawal of claims 14, and 18-19 of the '600 patent.

On October 16, 2008, Trend Micro and Barracuda filed a joint motion to terminate the investigation on the basis of a cross-licensing agreement.

The ALJ issued the subject ID on December 10, 2008, granting the joint motion to terminate. No party petitioned for review of the ID pursuant to 19 CFR 210.43(a), and the Commission found no basis for ordering a review on its own initiative pursuant to 19 CFR 210.44. The Commission has determined not to review the ID, and to terminate the investigation in its entirety.

The authority for the Commission's determination is contained in section 337 of the Tariff Act of 1930, as amended (19 U.S.C. 1337), and in sections 210.21(a) and 210.42(h)(3) of the Commission's Rules of Practice and Procedure (19 CFR 210.21(a), 210.42(h)(3)).

By order of the Commission.
Issued: January 8, 2009.
Marilyn R. Abbott,
Secretary to the Commission.

[FR Doc. E9-559 Filed 1-13-09; 8:45 am]

BILLING CODE 7020-02-P